SURFACE TRANSPORTATION BOARD

[Docket No. EP 552 (Sub-No. 22)]

Railroad Revenue Adequacy—2017 Determination

AGENCY: Surface Transportation Board.

ACTION: Notice of decision.

SUMMARY: On December 21, 2018, the Board served a decision announcing the 2017 revenue adequacy determinations for the Nation's Class I railroads. Four carriers (BNSF Railway Company, Norfolk Southern Combined Railroad Subsidiaries, Soo Line Corporation, and Union Pacific Railroad Company) were found to be revenue adequate.

DATES: This decision is effective on December 21, 2018.

FOR FURTHER INFORMATION CONTACT: Pedro Ramirez, (202) 245-0333. Assistance for the hearing impaired is available through the Federal Information Relay Service (FIRS) at (800) 877-8339.

SUPPLEMENTARY INFORMATION: The Board is required to make an annual determination of railroad revenue adequacy. A railroad is considered revenue adequate under 49 U.S.C. 10704(a) if it achieves a rate of return on net investment (ROI) equal to at least the current cost of capital for the railroad industry for 2017, determined to be 10.04% in Railroad Cost of Capital—2017, EP 558 (Sub-No. 21) (STB served Dec. 6, 2018). This revenue adequacy standard was applied to each Class I railroad. Four carriers (BNSF Railway Company, Norfolk Southern Combined Railroad Subsidiaries, Soo Line Corporation, and Union Pacific Railroad Company) were found to be revenue adequate for 2017.

The decision in this proceeding is posted on the Board's website at www.stb.gov. Copies of the decision may be purchased by contacting the Office of Public Assistance, Governmental Affairs, and Compliance at (202) 245-0238.

Decided: December 17, 2018.
By the Board, Board Members Begeman and Miller.
Tammy Lowery,
Clearance Clerk.

[FR Doc. 2018-27799 Filed 12-21-18; 8:45 am]

BILLING CODE 4915-01-P